DEPARTMENT OF COMMERCE

International Trade Administration

Harvard University et al.; Notice of Decision on Application for Duty-Free Entry of Scientific Instruments

This is a decision pursuant to section 6(c) of the Educational, Scientific, and Cultural Materials Importation Act of 1966 (Pub. L. 89-651, as amended by Pub. L. 106-36; 80 Stat. 897; 15 CFR part 301). On June 25, 2024, the Department of Commerce published a notice in theFederal Register requesting public comment on whether instruments of equivalent scientific value, for the purposes for which the instruments identified in the docket(s) below are intended to be used, are being manufactured in the United States. See Application(s) for Duty-Free Entry of Scientific Instruments, 89 FR 53045-46, June 25, 2024 (Notice). We received no public comments.

Comments: None received. Decision: Approved. We know of no instrument of equivalent scientific value to the foreign instrument described below, for such purposes as this is intended to be used, that was being manufactured in the United States at the time of order.

Docket Number: 24-013. Applicant: Harvard University, 17 Oxford Street, Jefferson 158, Cambridge, MA 02138. Instrument: Narrow linewidth single frequency fiber laser. Manufacturer: Shanghai Precilaser Technology, Co., Ltd., China. Intended Use: According to the applicant, the instrument is intended to be used to study for the high power (15 W), single frequency laser system at 828. 5 nm will be used in a quantum physics experiment at Harvard for optical tweezer trapping of rubidium-87 atoms. The available laser power will allow many more of these atoms (thousands) to be controlled than previously demonstrated (hundreds). This will allow the study of larger quantum systems with properties and fidelities far exceeding smaller systems.

Docket Number: 24-014. Applicant: Drexel University, Rm.-MS 3701, Market Street, RM 470, Central Receiving, 34th & Ludlow Streets, Philadelphia, PA 19104. Instrument: Battery fabrication equipment. Manufacturer: Xiamen TOB New Energy. Intended Use: According to the applicant, the instrument will be used to study and understand how battery electrodes are made, how to improve their processing, and how to make higher performance rechargeable batteries. The battery materials include oxides, and carbons and the phenomena is battery electrode microstructure and performance.

Docket Number: 24-015. Applicant: Harvard University, 17 Oxford Street, Jefferson 158, Cambridge, MA 02138. Instrument: Narrow Linewidth Laser. Manufacturer: Shanghai Precilaser Technology, Co., Ltd., China. Intended Use: According to the applicant, the instrument will be used to study the high power (15 W), narrow-linewidth/single frequency laser system at 852 nm will be used in a quantum physics experiment at Harvard for optical tweezer trapping of rubidium-87 atoms. Narrow-linewidth operation of the laser is critical to the method of optical tweezer generation we use to trap atoms, and as much power as possible is needed to perform experiments on the largest possible quantum systems. The wavelength of 852 nm is important because it is sufficiently far detuned from the atomic transition to provide long qubit coherence time.

Docket Number: 24-016. Applicant: Cornell University, 377 Pine Tree Rd., Ithaca, NY 14850. Instrument: Closed-cycle cryostat sample manipulator for ultra-low temperature angle-resolved photoemission spectroscopy & electron energy loss spectroscopy. Manufacturer: Fermion Instrument, China. Intended Use: According to the applicant, the instrument will be used to study and conduct two different types of experiments: angle-resolved photoemission spectroscopy (ARPES) and electron energy-loss spectroscopy (EELS). ARPES is a technique which allows us to measure directly the momentum-resolved single-particle electronic structure of materials. EELS is a technique which allows us to measure the energy-resolved collective excitations in materials. We currently have an electron detector that is, in principle, compatible with both techniques.

Dated: July 23, 2024.
Gregory W. Campbell,
Director, Subsidies and Economic Analysis, Enforcement and Compliance.

[FR Doc. 2024-16578 Filed 7-26-24; 8:45 am]

BILLING CODE 3510-DS-P